DEPARTMENT OF DEFENSE

Department of the Navy

Notice of Availability of Inventions for Licensing; Government-Owned Inventions

AGENCY: Department of the Navy, DOD.

ACTION: Notice.

SUMMARY: The inventions listed below are assigned to the United States Government as represented by the Secretary of the Navy and are available for licensing by the Department of the Navy.

The following patents are available for licensing:

U.S. Patent Number 6,038,995: COMBINED WEDGE-FLAP FOR IMPROVED SHIP POWERING.//U.S. Patent Number 6,041,728: SHAPE MEMORY ACTUATOR SYSTEM.//U.S. Patent Number 6,053,664: ELASTOMERIC COMPOSITE BUMPER SYSTEM AND METHOD FOR ABSORBING HIGH ENERGY IMPACT.//U.S. Patent Number 6,055,924: FOIL ASSISTED MARINE TOWING.//U.S. Patent Number 6,059,618: VENTILATED OUTBOARD MOTOR-MOUNTED PUMPJET ASSEMBLY.//U.S. Patent Number 6,069,101: BORON CARBIDE/SILICON CARBIDE CERAMICS.//U.S. Patent Number 6,075,753: SYSTEM FOR SIMULATION OF UNDERWATER EXPLOSION PRESSURE FIELDS.//U.S. Patent Number 6,076,480: FUEL STORING WATER BALLAST TANK INTERNALLY STRUCTURED FOR REDUCING RETENTION OF WATER AND OVERBOARD DISCHARGE OF FUEL.//U.S. Patent Number 6,080,982: EMBEDDED WEAR SENSORS.//U.S. Patent Number 6,082,436: METHOD OF CENTRIFUGALLY CASTING REINFORCED COMPOSITE ARTICLES.//U.S. Patent Number 6,097,668: COMPONENT DEPLOYMENT MEANS FOR ICE PENETRATING ACOUSTICS COMMUNICATION RELAY SYSTEM.//U.S. Patent Number 6,101,963: RUDDER TAB FOR SUPPRESSION OF TIP VORTEX CAVITATION.//U.S. Patent Number 6,105,716: VENTURI MUFFLER HAVING PLURAL NOZZLES.//U.S. Patent Number 6,116,328: FABRICATION OF TILE REINFORCED COMPOSITE ARMOR CASTING.//U.S. Patent Number 6,127,130: MULTIASSAY METHOD OF DETERMINING THE CONCENTRATIONS OF ANTIGENS AND INTERFERANTS.//U.S. Patent Number 6,138,724: SHIPBOARD PAINT DISPENSING SYSTEM.//U.S. Patent Number 6,139,648: PRESTRESS IMPOSING TREATMENT OF MAGNETOSTRICTIVE MATERIAL.//U.S. Patent Number 6,150,974: INFRARED TRANSPARENT RADAR ANTENNA.//U.S. Patent Number Re. 36,979: SURFACE CONFORMING FLEXIBLE EDDY CURRENT PROBE FOR SCANNING VARYING SURFACE CONTOURS.//U.S. Patent Number 6,159,060: PROTECTIVE SHROUDING WITH DEBRIS DIVERTING INFLOW VANES FOR PUMP-JET PROPULSION UNIT.//U.S. Patent Number 6,164,411: SUPPRESSION OF ACOUSTIC CAVITY RESONANCE INDUCED BY FLUID FLOW.//U.S. Patent Number 6,170,422: ATTACHMENT OF EQUIPMENT TO COMPOSITE SANDWICH CORE STRUCTURES.//U.S. Patent Number 6,171,159: STEERING AND BACKING SYSTEMS FOR WATERJET CRAFT WITH UNDERWATER DISCHARGE.//U.S. Patent Number 6,172,510: SYSTEM FOR DETECTION OF FLAWS BY USE OF MICROWAVE RADIATION.//U.S. Patent Number 6,174,688: MULTIASSAY METHOD FOR DETERMINING THE CONCENTRATIONS OF ANTIGENS AND INTERFERANTS.//U.S. Patent Number 6,176,943: PROCESSING TREATMENT OF AMORPHOUS MAGNETOSTRICTIVE WIRES.//U.S. Patent Number 6,182,495: TEST MACHINE FOR SIMULATION OF SHOCK WAVE INDUCED MOTION.//U.S. Patent Number 6,189,475: PROPELLED CABLE FAIRING.//U.S. Patent Number 6,192,541: DYNAMIC RAMP INTERFACE SYSTEM.//U.S. Patent Number 6,196,107: EXPLOSIVE CONTAINMENT DEVICE.//U.S. Patent Number 6,207,065: INTEGRATED LIQUID DISCHARGE SYSTEM.//U.S. Patent Number 6,208,268: VEHICLE PRESENCE, SPEED AND LENGTH DETECTING SYSTEM AND ROADWAY INSTALLED DETECTOR THEREFOR.//U.S. Patent Number 6,213,021: ELECTROMAGNETIC SEA MINE DETONATION SYSTEM.//U.S. Patent Number 6,227,139: CONTROL TAB ASSISTED LIFT REDUCING SYSTEM FOR UNDERWATER HYDROFOIL SURFACE.//U.S. Patent Number 6,229,762: ACOUSTIC SENSOR FOR A POINT IN SPACE.//U.S. Patent Number: 6,235,541: PATTERNING ANTIBODIES ON A SURFACE.

ADDRESSES: Requests for copies of the patents cited should be directed to: Naval Surface Warfare Center Carderock Division, Code 0117, 9500 MacArthur Boulevard, West Bethesda, MD 20817-5700, and must include the patent number.

FOR FURTHER INFORMATION CONTACT: Mr. Dick Bloomquist, Director, Technology Transfer Office, Naval Surface Warfare Center Carderock Division, Code 0117, 9500 MacArthur Boulevard, West Bethesda, MD 20817-5700, telephone (301) 227-4299.

(Authority: 35 U.S.C. 207, 37 CFR Part 404)
Dated: June 8, 2001.
J.L. Roth,
Lieutenant Commander, Judge Advocate General's Corps, U.S. Navy, Federal Register Liaison Officer.

[FR Doc. 01-15447 Filed 6-19-01; 8:45 am]

BILLING CODE 3810-FF-P